DEPARTMENT OF JUSTICE

Antitrust Division

Notice Pursuant to the National Cooperative Research and Production Act of 1993; Advanced Media Workflow Association, Inc.

Notice is hereby given that, on June 22, 2010, pursuant to section 6(a) of the National Cooperative Research and Production Act of 1993, 15 U.S.C. 4301 et seq. (“the Act”), Advanced Media Workflow Association, Inc. has filed written notifications simultaneously with the Attorney General and the Federal Trade Commission disclosing changes in its membership. The notifications were filed for the purpose of extending the Act's provisions limiting the recovery of antitrust plaintiffs to actual damages under specified circumstances. Specifically, John A. Hoehn (individual member), Pennsville, NJ; Cristiano Nuernberg (individual member), Cambridge, MA; Matt Pearcey (individual member), Wells, UNITED KINGDOM; and Jason Schwartz (individual member), Las Vegas, NV, have been added as parties to this venture. Also, eBus Limited, Auckland, NEW ZEALAND; Lifetime, New York, NY; RPPtv, Midhurst, K. Sussex, UNITED KINGDOM; and Matt Beard (individual member), Maud, Peterchard, UNITED KINGDOM, have withdrawn as parties to this venture.

No other changes have been made in either the membership or planned activity of the group research project. Membership in this group research project remains open, and Advanced Media Workflow Association, Inc. intends to file additional written notifications disclosing all changes in membership.

On March 28, 2000, Advanced Media Workflow Association, Inc. filed its original notification pursuant to section 6(a) of the Act. The Department of Justice published a notice in the Federal Register pursuant to section 6(b) of the Act on June 29, 2000 (65 FR 40127).

The last notification was filed with the Department on March 18, 2010. A notice was published in the Federal Register pursuant to section 6(b) of the Act on May 6, 2010 (75 FR 24971).

Patricia A. Brink,
Deputy Director of Operations, Antitrust Division.

[FR Doc. 2010-16863 Filed 7-13-10; 8:45 am]

BILLING CODE 4410-11-M